DEPARTMENT OF COMMERCE

International Trade Administration

Notice To Establish an Advisory Committee on Travel and Tourism

Summary: In accordance with the provisions of the Federal Advisory Committee Act, 5 U.S.C. App. 2, and the General Services Administration (GSA) rule of Advisory Committee Management, 41 CFR part 102-3 and after consultation with GSA, the Secretary of Commerce has determined that the establishment of the U.S. Travel and Tourism Advisory Board is in the public interest, in connection with the performance of duties imposed on the Department by law. This is a renaming of the original board established in 2003 under the name U.S. Travel and Tourism Promotion Advisory Board pursuant to the Department of Commerce and Related Agencies Appropriations Act, 2003, section 210 (Public Law 108-7). This also expands the duties of the Board to include the activities that are authorized under 15 U.S.C. 1512, set forth below.

Under the newly established U.S. Travel and Tourism Advisory Board, the Secretary of Commerce shall in consultation with the Board design, develop and implement an international promotional campaign, which seeks to encourage foreign individuals to travel to the United States for the purposes of engaging in tourism related activities. Also, pursuant to 15 U.S.C. 1512 which provides the Department of Commerce the province and duty to foster, promote and develop foreign and domestic commerce, the Board shall advise the Secretary of Commerce on the development, creation and implementation of a national tourism strategy and shall provide a means of ensuring regular contact between the government and the travel and tourism sector. The Board shall advise the Secretary on government policies and programs that affect the United States travel and tourism industry and provide a forum for discussing and proposing solutions to industry related problems.

The U.S. Travel and Tourism Advisory Board will consist of no more than 15 members appointed by the Secretary of Commerce to assure a balanced representation among the travel and tourism industry sector. The U.S. Travel and Tourism Advisory Board will function solely as an advisory body, and in compliance with the provisions of the Federal Advisory Committee Act. Its charter will be filed under the Act, fifteen days from the date of publication of this notice.

For Further Information Contact: Interested persons are invited to submit comments regarding the establishment of this committee to Lindsey Dickinson, Director, Office of Advisory Committees, U.S. Department of Commerce, Room 4043, Washington, DC 20230.

Dated: July 29, 2005.
Lindsey Dickinson,
Director, Office of Advisory Committees.

[FR Doc. E5-4142 Filed 8-3-05; 8:45 am]

BILLING CODE 3510-DS-P